DEPARTMENT OF TRANSPORTATION

Federal Highway Administration

Environmental Impact Statement: Austin, Fort Bend, Harris, and Waller Counties, Texas

AGENCY: Federal Highway Administration (FHWA), DOT.

ACTION: Federal notice of intent to prepare an Environmental Impact Statement (EIS).

SUMMARY: Pursuant to 23 CFR 771.123(a), FHWA, on behalf of the Texas Department of Transportation (TxDOT), is issuing this notice to advise the public that an EIS will be prepared for a proposed transportation project to construct a new north-south highway from Farm-to-Market Road (FM) 1994 south of Needville, Texas to Interstate Highway (I) 10 west of Katy, Texas (CSJ: 0912-00-544).

FOR FURTHER INFORMATION CONTACT: TxDOT Houston District, P.O. Box 1386, Houston, Texas 77251-1386, 713-802-5199, HOU-PIOwebmail@txdot.gov.

SUPPLEMENTARY INFORMATION: The environmental review, consultation, and other actions required by applicable Federal environmental laws for this project are being, or have been, carried out by TxDOT pursuant to 23 U.S.C. 327 and a Memorandum of Understanding dated December 9, 2019, and executed by FHWA and TxDOT.

The proposed project is needed because the 36A South Project Study Area lacks major north-south highways, which limits mobility and connectivity through the study area.

36A South is proposed as a new highway from Farm-to-Market (FM) Road 1994 south of Needville, Texas to Interstate Highway (I) 10 west of Katy, Texas. The proposed highway would be approximately 41 miles in length and would serve Austin, Fort Bend, Harris, and Waller counties.

The EIS will evaluate a range of build alternatives and a no-build alternative.

TxDOT will issue a single Final Environmental Impact Statement and Record of Decision document pursuant to 23 U.S.C. 139(n)(2), unless TxDOT determines statutory criteria or practicability considerations preclude issuance of a combined document.

In accordance with 23 U.S.C. 139, cooperating agencies, participating agencies, and the public will be given an opportunity for continued input on project development. A virtual public scoping meeting is planned for Tuesday, Aug. 26, 2025, with two in-person open houses. One in-person meeting would be held on Aug. 26 at Leonard E. Merrell Center, located at 6301 S Stadium Ln., Katy, TX 77494 and the second on Thursday, Aug. 28, 2025, at Fort Bend Epicenter, located at 28505 Southwest Fwy., Rosenberg, TX 77471. Both would be from 5 to 7 p.m. and would present identical content. The public scoping meeting will provide an opportunity for the public to review and comment on the draft coordination plan and schedule, the project purpose and need, the range of alternatives, and methodologies and level of detail for analyzing alternatives. It will also allow the public an opportunity to provide input on any expected environmental impacts, anticipated permits or other authorizations, and any significant issues that should be analyzed in depth in the EIS. In addition to the public scoping meeting, a public hearing will be held after the draft EIS is prepared. Public notice will be given of the time and place of the meeting and hearing.

The public meeting will be conducted in English. If you need an interpreter or document translator because English is not your primary language or you have difficulty communicating effectively in English, one will be provided to you free of charge. If you have a disability and need assistance, special arrangements can be made to accommodate most needs. If you need interpretation or translation services or you are a person with a disability who requires an accommodation to attend and participate in the public meeting, please contact Gabriel Adame, TxDOT Houston District Public Engagement Coordinator, at 713-802-5199 no later than 4 p.m. CT, Friday, Aug. 22, 2025. Please be aware that advance notice is required as some services and accommodations may require time for the Texas Department of Transportation to arrange.

The public is requested to provide public comment on alternatives or impacts and on relevant information, studies, or analyses with respect to this proposed project. Comments may be provided in writing by mail to Advanced Project Development, Texas Department of Transportation—Houston District, P.O. Box 1386, Houston, Texas 77251-1386 or by email to HOU-PIOwebmail@txdot.gov. Comments must be received by Friday, Sept. 12, 2025.

(Catalog of Federal Domestic Assistance Program Number 20.205, Highway Planning and Construction.)

Issued on: July 8, 2025.
Ed Burgos-Gomez,
Acting Director Program Development, Federal Highway Administration.

[FR Doc. 2025-13745 Filed 7-21-25; 8:45 am]

BILLING CODE 4910-RY-P